DEPARTMENT OF JUSTICE

Federal Bureau of Prisons

Availability of the Finding of No Significant Impact for the Criminal Alien Requirement VIII

AGENCY: U.S. Department of Justice, Federal Bureau of Prisons.

ACTION: Notice; finding of no significant impact.

SUMMARY: The U.S. Department of Justice, Federal Bureau of Prisons (BOP) announces the availability of the Finding of No Significant Impact (FONSI) concerning the Criminal Alien Requirement VIII (CAR VIII). The BOP is seeking flexibility in managing its current shortage of beds by contracting for those services with non-federal facilities to house federal inmates. This approach provides the BOP with flexibility to meet population capacity needs in a timely fashion, conform with federal law, and maintain fiscal responsibility, while successfully attaining the mission of the BOP. The BOP proposed to contract with a public and private corporation to house up to 3000 federal, low-security, adult male inmates, that are primarily non-U.S. citizen, criminal aliens in existing Contractor-Owned/Contractor-Operated facilities. The award would be granted to a responsible offeror whose offer is found to be most advantageous to the Government. One existing facility has been offered in response to the BOP's solicitation for services. The one response provided a total of 2,567 beds. Environmental impacts of the facility were evaluated in a Environmental Assessment (EA). The EA evaluated the full effects of the available 2,567 inmate beds. Environmental impacts of this facility have been evaluated in an EA provided by the Offeror.

FOR FURTHER INFORMATION CONTACT: Richard A. Cohn, Chief, Capacity Planning and Site Selection Branch, Federal Bureau of Prisons, 320 First Street, NW., Washington, DC 20534. Tel: 202-514-6470. Fax: 202-616-6024. E-mail: rcohn@bop.gov.

SUPPLEMENTARY INFORMATION:

Background

Pursuant to Section 102(2)(c) of the National Environmental Policy Act (NEPA) of 1969 and the Council of Environmental Quality Regulations (40 CFR Parts 1500-1508), the EA prepared to contract with a public and private corporation to house approximately 2,500 Federal, low-security, adult male inmates, non-U.S. citizen, that are primarily criminal aliens in existing Contractor-Owned/Contractor-Operated facility. One existing facility, has been offered in response to the BOP's solicitation for services. The one response provided a total of 2,567 beds. The EA was published on January 14, 2009, for a 30-day comment period and prepared pursuant to NEPA.

Project Information

The BOP is responsible for carrying out judgements of the Federal courts whenever a period of confinement is ordered.

Subsequently, the mission of the BOP is to protect society by confining offenders in the controlled environments of prisons and community-based facilities that are safe, humane, cost-efficient, and appropriately secure, and that provide work and other self improvement opportunities to assist offenders in becoming law abiding citizens. Approximately 163,200 inmates are currently housed within the 114 federal correctional institutions that have levels of security ranging from minimum to maximum; a number exceeding the combined rated capacities of all federal correctional facilities. Measures being taken to manage the growth of the federal inmate population include construction of new institutions, acquisition and adaptation of facilities originally intended for other purposes, expansion and improvement of existing correctional facilities, and expanded use of contract beds. Adding capacity through these various means allows the BOP to work toward the long-term goal of reduced system-wide overcrowding.

Alternatives Considered

The No Action alternative is defined as a decision not to proceed with the proposed action to award a contract to house the described population. Instead, the BOP would continue the current and long-standing arrangement whereby low-security, adult male, criminal alien inmate populations are housed in facilities owned and operated by the BOP as well as with State, local, and private residential reentry centers and in alternative confinement. Adoption of the No Action alternative would avoid the potential impacts associated with use of a Contractor-Owned/Contractor-Operated correctional facility to house low security, Federal inmates.

Under the No Action alternative, the beneficial impacts on local and regional economies resulting from operational budget expenditures at potentially vacant or underutilized correctional facility would not occur. Under the No Action alternative, no job growth would be experienced in Adams County, Mississippi. The No Action alternative does not meet the purpose and need of the BOP's Action alternative and would not address the demand for additional capacity to house the increasing federal inmate population. One location was evaluated in the EA. This facility could be awarded a number of inmates up to its capacity; potential impacts at this facility were evaluated based upon its maximum possible capacity. The facility and respective inmate populations evaluated were:

▪ Corrections Corporation of America, located in Adams County, Mississippi, evaluated for its maximum capacity under this action to provide 2,567 beds.

The impacts of the Action alternative on the environment were considered in an EA published on January 14, 2009 and prepared pursuant to NEPA. The EA evaluated the full effects of the potentially available 2,567 inmate beds. Review of the EA has led to a FONSI, as that phrase is defined pursuant to NEPA. The Action alternative would result in negligible impacts to public services of host communities. There would be no significant adverse impacts to surrounding land uses, utility systems, traffic patterns or other community considerations. No significant adverse on-site impacts as defined pursuant to NEPA are anticipated as a result of the Action alternative. After review of the comments received from interested agencies and local citizens concerning the EA, the BOP signed a FONSI for the Action alternative.

Notice of Availability

BOP provided written notices of the availability of the EA in the local newspaper for 4-days with local and regional circulations, and through the local public library. The BOP also distributed approximately 50 copies (each) of the EA to Federal and State agencies, State and local governments, elected officials, interested organizations, and individuals.

Availability of the Finding of No Significant Impact

The FONSI and other information regarding this project are available upon request. To request a copy of the FONSI, please contact: Richard A. Cohn, Chief, Capacity Planning and Site Selection Branch or Issac J. Gaston, Site Selection Specialist, Capacity Planning and Site Selection Branch, Federal Bureau of Prisons, 320 First Street, NW., Washington, DC 20534 Tel: 202-514-6470/Fax: 202-616-6024/E-mail: rcohn@bop.gov—igaston@bop.gov.

Dated: February 18, 2009.
Richard A. Cohn,
Chief, Capacity Planning and Site Selection Branch.

[FR Doc. E9-3934 Filed 2-26-09; 8:45 am]

BILLING CODE 4410-05-P